SECURITIES AND EXCHANGE COMMISSION

[Release No. 34-42915; File No. SR-Amex-00-28]

Self-Regulatory Organizations; Notice of Filing and Immediate Effectiveness of Proposed Rule Change by the American Stock Exchange LLC, Relating to an Increase in Fees for Registered Options Trader and Specialist Transactions in Exchange Traded Fund Shares

June 9, 2000.

Pursuant to Section 19(b)(1) of the Securities Exchange Act of 1934 (“Act”) ¹ and Rule 19b-4 thereunder,² notice is hereby given that on May 25, 2000, the American Stock Exchange LLC (“Amex” or “Exchange”) filed with the Securities and Exchange Commission (“SEC” or “Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Amex proposes to revise fees for Registered Options Trader and Specialist transactions in Exchange Traded Fund Shares.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Amex has prepared summaries, set forth in sections (A), (B), and (C) below, of the most significant aspects of such statements.

A. Self-Regulatory Organization's Statement of the Purpose of, and the Statutory Basis for, the Proposed Rule Change

(1) Purpose

The Ammex currently imposes charges for transactions in Portfolio Depositary Receipts (“PDRs”), Index Fund Shares and Trust Issued Receipts (“TIRs”) executed on the Exchange. Currently, charges include fees for Registered Options Trader and Specialist transactions in PDRs, Index Fund Shares and TIRs, including Nasdaq-100 Index Trust, SPDRs, DIAMONDS, WEBS, MidCap SPDRs, Select Sector SPDRs, and HOLDRs. The current rate for Specialist transactions in these products is $0.006 per share ($0.60 per 100 shares), capped at $300 per trade (50,000 shares). The current rate for Registered Options Trader transactions is $0.007 per share ($0.70 per 100 shares), capped at $350 per trade (50,000 shares). Off floor orders (i.e., customer and broker-dealer) are charged $0.006 per share ($0.60 per 100 shares), capped at $100 per trade (16,667 shares).

The Exchange proposes to revise fees for Registered Options Trader and Specialist transactions in PDRs, Index Fund Shares and TIRs. The Exchange will apply the revised transaction fees to all Registered Options Trader and Specialist transactions in currently traded as well as newly listed PDRs, Index Fund Shares and TIRs. The proposed revision is in the amount of $0.03 per 100 shares for Specialist and Registered Options Trader transactions. As a result, upon implementation of the proposed fee revision, Specialist fees for transactions in PDRs, Index Fund Shares and TIRs will increase from $0.006 per share ($0.60 per 100 shares) to $0.0063 per share ($0.63 per 100 shares) and Registered Options Trader fees will increase from $0.007 per share ($0.70 per 100 shares) to $0.0073 per share ($0.73 per 100 shares).

The Exchange is undertaking the proposed revision in fees to offset increased Exchange expenses and costs associated with the continued development, listing and trading of additional PDRs, Index Fund Shares and TIRs. Because the proposed revision in fees will better enable the Exchange to further develop, list and trade new Exchange Traded Fund Shares, the Exchange believes it is appropriate and necessary to implement the revised fee schedule.

(2) Statutory Basis

The proposed rule change is consistent with Section 6(b) ³ of the Act in general and furthers the objectives of Section 6(b)(4) ⁴ in particular, in that it is designed to provide for the equitable allocation of reasonable dues, fees, and other charges among its members and issuers and other persons using its facilities.

³ 15 U.S.C. 78f(b).

⁴ 15 U.S.C. 78f(b)(4).

B. Self-Regulatory Organization's Statement on Burden on Competition

The Exchange does not believe that the proposed rule change will impose any burden on competition.

C. Self-Regulatory Organization's Statement on Comments on the Proposed Rule Change Received From Members, Participants or Others

No written comments were solicited or received with respect to the proposed rule change.

III. Date of Effectiveness of the Proposed Rule Change and Timing for Commission Action

The foregoing rule change, which establishes or changes a due, fee or other charge imposed by the Exchange, has become effective pursuant to Section 19(b)(3)(A) of the Act ⁵ and subparagraph (f)(2) of Rule 19b-4 thereunder.⁶ At any time within 60 days of the filing of such proposed rule change, the Commission may summarily abrogate such rule change if it appears to the Commission that such action is necessary or appropriate in the public interest, for the protection of investors, or otherwise in the furtherance of the purposes of the Act.

⁵ 15 U.S.C. 78s(b)(3)(A).

⁶ 17 CFR 240.19b-4(f)(2).

IV. Solicitation of Comments

Interested persons are invited to submit written data, views and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room in Washington, D.C.

Copies of such filing will also be available for inspection and copying at the principal office of the Amex. All submissions should refer to File No. SR-AMEX-00-28 and should be submitted by July 10, 2000.

For the Commission, by the Division of Market Regulation, pursuant to delegated authority.
Margaret H. McFarland,
Deputy Secretary.

[FR Doc. 00-15345 Filed 6-16-00; 8:45 am]

BILLING CODE 8010-01-M